Title 3—

The President

Proclamation 10859 of November 15, 2024

American Education Week, 2024

By the President of the United States of America

A Proclamation

During American Education Week, we celebrate the power and promise of our Nation's public education system, which has empowered so many students to realize their full potential regardless of their zip code. We show gratitude for educators and staff, who ensure that our schools are filled with hope and possibilities. And we recommit to ensuring each student, educator, and school has the resources and opportunities they need to thrive.

America's public education system helps define who we are: a Nation of possibilities, where everyone gets a fair shot to pursue their talents and ambitions. Some of our Nation's greatest scholars and scientists, artists and humanitarians, and dreamers and doers got their start at a public school. Many have further honed their skills in our colleges, universities, Registered Apprenticeships, and career and technical education programs. An education gives you something no one can take away—that is why we must remain committed to supporting our schools, which open the doors of opportunity wider for everyone.

I am proud that my Administration secured a historic $130 billion in funding for our Nation's K-12 schools through my American Rescue Plan. That law put more teachers in classrooms and put more counselors, social workers, and other supportive staff in our schools. It also invested in high-quality tutoring and made historic expansions in summer and after-school programs while upgrading the physical school buildings, including making aging buildings more secure and improving air quality.

My Administration also remains committed to ensuring students have the resources they need to succeed. My American Rescue Plan led to our country's biggest-ever investment in mental health and substance use programs, providing critical funding to increase the number of mental health providers in our schools. Furthermore, my Bipartisan Safer Communities Act—the first major Federal gun safety legislation passed in nearly 30 years—made important steps toward ending the threat of gun violence, which brings terror to far too many schools. The Bipartisan Safer Communities Act also included $2 billion in funding to create safe, inclusive learning environments for all students and to train and hire more mental health professionals for schools. My Administration also made it easier for schools to bill Medicaid so that they could deliver critical health services, including mental health services to students. And through my national strategy to end hunger and reduce diet-related diseases in America by 2030, we are working toward a future where every kid has access to free, healthy school meals.

Setting students up for success also means improving our Nation's early childhood education. Children who go to preschool are nearly 50 percent more likely to finish high school and go on to earn a 2- or 4-year degree no matter their background. My Administration has fought to make preschool universal for every 3- and 4-year-old in America.

To support our Nation's higher education system, my Administration secured nearly $40 billion for colleges and universities through my American Rescue Plan. That includes billions of dollars in funding for Minority-Serving Institutions and Historically Black Colleges and Universities. I have always believed that higher education should be a pathway to the middle class—but we have to make it more affordable. That is why my Administration provided the largest increases to the maximum Pell Grant award in over a decade, making college more affordable for over six million students. We also canceled student loan debt for over one million public service workers, including teachers, by fixing the Public Service Loan Forgiveness (PSLF) Program. Before I took office, only 7,000 public service workers had ever received the forgiveness they were entitled to through PSLF. In total, we have approved debt cancellation for nearly five million Americans across all our various debt relief actions, including fixing Income-Driven Repayment so borrowers get the relief they earned and holding the colleges that take advantage of students and families accountable.

Everyone deserves a fair shot at the American Dream, so my Administration has invested more in Registered Apprenticeships and career and technical training programs than any other administration in history, empowering workers to earn while they learn and opening up new pathways to secure good-paying jobs. We are also working to expand Registered Apprenticeships for educators and increase access to high-quality teacher preparation programs, including by making them more affordable.

During American Education Week, we show our gratitude to the educators and school staff across our Nation, who are the kite strings that keep our national ambitions aloft. And together, we will work to ensure our Nation's students have every opportunity to succeed.

NOW, THEREFORE, I, JOSEPH R. BIDEN JR., President of the United States of America, by virtue of the authority vested in me by the Constitution and the laws of the United States, do hereby proclaim November 17 through November 23, 2024, as American Education Week. I call upon all Americans to mark this week with appropriate programs, ceremonies, and activities honoring those who devote their talents and energies to helping our children reach their full potential and to building school communities where all students feel they belong.

IN WITNESS WHEREOF, I have hereunto set my hand this fifteenth day of November, in the year of our Lord two thousand twenty-four, and of the Independence of the United States of America the two hundred and forty-ninth.

[FR Doc. 2024-27304

Filed 11-19-24; 8:45 am]

Billing code 3395-F4-P